NATIONAL CREDIT UNION ADMINISTRATION

Agency Information Collection Activities: Submission to OMB for Reinstatement, with Change, of a Previously Approved Collection; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is published to obtain comments from the public. Financial and statistical information is collected on a monthly basis and is used by NCUA to monitor financial and statistical trends in corporate credit unions and to allocate examination and supervision resources.

DATES: Comments will be accepted until April 1, 2014.

ADDRESSES: Interested parties are invited to submit written comments to the NCUA Contact and the OMB Reviewer listed below:

NCUA Contact: Tracy Crews, National Credit Union Administration, 1775 Duke Street, Alexandria, VA 22314-3428, Fax No. 703-837-2861, Email: OCIOPRA@ncua.gov.

OMB Reviewer: Office of Management and Budget, ATTN: Desk Officer for the National Credit Union Administration, Office of Information and Regulatory Affairs, Washington, DC 20503.

FOR FURTHER INFORMATION CONTACT: Requests for additional information, a copy of the information collection request, or a copy of submitted comments should be directed to Tracy Crews at the National Credit Union Administration, 1775 Duke Street, Alexandria, VA 22314-3428, or at (703) 518-6444.

SUPPLEMENTARY INFORMATION:

I. Abstract and request for comments

NCUA is amending/reinstating the collection for 3133-0067. The Federal Credit Union Act, 12 U.S.C. 1782(a)(1), requires federally insured credit unions to make reports of condition to the NCUA Board upon dates the Board selects. NCUA collects the financial and statistical information on a monthly basis and uses it to monitor financial and statistical trends in corporate credit unions and to allocate examination and supervision resources. If this information was not collected, NCUA would not be able to effectively fulfill its primary mission of regulating and supervising credit unions. The burden on the industry continues to decline as a result of mergers of corporate credit unions.

NCUA requests that you send your comments on this collection to the location listed in the ADDRESSES section. Your comments should address: (a) the necessity of the information collection for the proper performance of NCUA, including whether the information will have practical utility; (b) the accuracy of our estimate of the burden (hours and cost) of the collection of information, including the validity of the methodology and assumptions used; (c) ways we could enhance the quality, utility, and clarity of the information to be collected; and (d) ways we could minimize the burden of the collection of the information on the respondents such as through the use of automated collection techniques or other forms of information technology. It is NCUA's policy to make all comments available to the public for review.

II. Data

Title: Corporate Credit Union Monthly Call Report.

OMB Number: 3133-0067.

Form Number: NCUA 5310.

Type of Review: Reinstatement, with change, of a previously approved collection.

Description: NCUA utilizes the information to monitor financial conditions in corporate credit unions, and to allocate supervision and examination resources.

Respondents: Corporate credit unions, or “banker's banks” for natural person credit unions.

Estimated No. of Respondents/Record keepers: 15.

Estimated Burden Hours Per Response: 8 hours.

Frequency of Response: Monthly.

Estimated Total Annual Burden Hours: 1,440 hours.

Estimated Total Annual Cost: $72,000.

By the National Credit Union Administration Board on January 17, 2014.
Gerard Poliquin,
Secretary of the Board.

[FR Doc. 2014-01909 Filed 1-30-14; 8:45 am]

BILLING CODE 7535-01-P